DEPARTMENT OF ENERGY

Office of Energy Efficiency and Renewable Energy

[Docket Number EERE-2011-BT-NOA-0039]

Technology Evaluation Process

AGENCY: Office of Energy Efficiency and Renewable Energy, Department of Energy.

ACTION: Notice of request for information (RFI).

SUMMARY: The U.S. Department of Energy (DOE) seeks comments and information related to a commercial buildings technology evaluation process. DOE is seeking to create a process for evaluating emerging and underutilized energy efficient technologies for commercial buildings based on the voluntary submittal of product test data. The program would be centered on a publicly accessible listing of products that meet minimum energy efficiency criteria specified for the applicable technology type. Evaluation under the criteria would be based on product test data submitted by manufacturers, then analyzed by DOE to generate information related to the energy savings of the products. For those products that met the specified minimum energy efficiency criteria, the results of such analyses would be made publicly available. The program would provide centralized information on the analysis factors in a manner that would make results directly comparable between products within the same technology type or area.

DATES: Written comments and information are requested on or before June 27, 2011.

ADDRESSES: Interested persons may submit comments, identified by docket number EERE-2011-BT-NOA-0039, by any of the following methods. Your response should be limited to 3 pages. Questions relative to responding to this RFI may be sent to the same mailbox in advance of your response, and will be answered via e-mail.

• E-mail: to TechID-RFI-2011-NOA-0039@ee.doe.gov. Include EERE-2011-BT-NOA-0039 in the subject line of the message.

• Mail: Ms. Brenda Edwards, U.S. Department of Energy, Building Technologies Program, Mailstop EE-2J, Revisions to Energy Efficiency Enforcement Regulations, EERE-2011-BT-NOA-0039, 1000 Independence Avenue, SW., Washington, DC 20585- 0121. Phone: (202) 586-2945. Please submit one signed paper original.

• Hand Delivery/Courier: Ms. Brenda Edwards, U.S. Department of Energy, Building Technologies Program, 6th Floor, 950 L'Enfant Plaza, SW., Washington, DC 20024. Phone: (202) 586-2945. Please submit one signed paper original.

Instructions: All submissions received must include the agency name and docket number.

FOR FURTHER INFORMATION CONTACT: Direct requests for additional information may be sent to Mr. Alan Schroeder, U.S. Department of Energy, Office of Energy Efficiency and Renewable Energy, Building Technologies Program, EE-2J, 1000 Independence Avenue, SW., Washington, DC 20585-0121. Telephone: 202-586-0158. E-mail: Alan.Schroeder@ee.doe.gov.

SUPPLEMENTARY INFORMATION:

Program Overview

The U.S. Department of Energy (DOE) is seeking to create a process for evaluating emerging and underutilized energy efficient technologies for commercial buildings based on the voluntary submittal of product test data. The program would be centered on a publicly accessible listing of products that meet minimum energy efficiency criteria specified for the applicable technology type. Evaluation under the criteria would be based on product test data submitted by manufacturers, then analyzed by DOE to generate information related to the energy savings of the products. For those products that met the specified minimum energy efficiency criteria, the results of such analyses would be made publicly available. The program would provide centralized information on the analysis factors in a manner that would make results directly comparable between products within the same technology type or area.

DOE recognizes that building owners and operators, utilities, states, and local governments, among others, could greatly benefit from a central listing of product test data and a standard process for evaluating potential commercial building technologies, thus potentially preventing the duplication of product evaluation efforts. The goal of creating this standard process is to evaluate energy-saving technologies in a common manner utilizing product test data. The process is intended to help accelerate the adoption of energy-saving commercial building equipment by providing information to owners, operators, utilities, states, and local governments to facilitate decisions regarding the purchase/implementation of the technologies. To facilitate awareness of the new process, and to allow interested parties to provide suggestions, comments, and information, DOE is publishing this Request for Information (RFI).

DOE envisions the new technology evaluation process will be based on several central elements. As proposed, the evaluations would be based on qualified third-party laboratory test data using only qualified procedures. Manufacturers, and possibly utilities, suppliers, and energy programs would submit third-party test data to the program through a Web site portal. Technology areas of interest would be identified by DOE and test data submissions would need to fall within these areas of interest. The up-to-date technology areas of interest would be identified on the test data submission Web site.

As currently being considered, the test data would be reviewed to ensure it comports with program specifications and subsequently evaluated using standard methodologies. The evaluations would use the test data as input for DOE models to perform analyses such as energy savings analyses, life-cycle cost analyses, and payback analyses for the technology being evaluated. Results of the technology evaluations would be publicly available for those products that met specified minimum criteria. Test data submitters would have an opportunity to comment on the results of the evaluations of their test data prior to a determination of whether the evaluations were posted.

Detailed Description

The following describes the considered framework through which DOE intends to develop a new voluntary commercial building technology evaluation process. Participation in this program would be strictly voluntary; however, evaluations conducted through this program would be available to the public.

The screening would consist of a three-step review followed by specified energy- and cost-related analyses. The first review would be to ensure that the product is of a type identified by DOE as a technology of interest. The second review would be of the data source. DOE is considering specifying that data be generated by an industry-accredited test laboratory. The third review would ensure that the data was generated according to a recognized test procedure. If a submission does meet all three criteria in the reviews, DOE would perform the following analyses: Annual operating expense, energy savings, life-cycle cost, and payback analysis. DOE is also interested in recommendations of additional analyses that would assist building owners and managers in making investment decisions. DOE has not yet identified what results would be necessary under each analysis in order for a product to be publicly listed under the program, and is accepting comment on this issue. For submitted test data that does not meet the review criteria, DOE would still accept the test data, but is unlikely to conduct any analyses.

The first review would be to ensure that the test data is for a product within the current technology scope of this new process, as identified by DOE. The current technology areas of interest would be listed on the test data submission Web site. This list of areas of interest would be updated approximately every six months.

The second review would be to ensure that submitted test data originated from an accredited laboratory. As stated above, DOE intends to have the process rely on third-party test data from sources recognized under an industry accreditation program. Generally, third-party test data can support accurate and reliable evaluations of technologies related to the energy savings potential of implementing, or switching to, certain commercial building technologies. To qualify as an accredited third party laboratory, the laboratory that generates the test data would need to be accredited to ISO 17025 General Requirements for the Competence of Testing and Calibration Laboratories, or an equivalent standard as determined by DOE in its evaluation methodology.

The third review of the test data would be to ensure that the test data was collected according to a qualified test plan. To be considered a qualified test plan, the test procedure run by the third party laboratory would need to be one of the following:

(a) A Federal test procedure established in regulation (e.g., a DOE appliance efficiency test procedure).

(b) A test procedure relied upon by a Federal program (e.g., an ENERGY STAR-qualified test procedure).

(c) A test procedure established under an industry consensus process.

DOE anticipates that a Web site would serve as both a portal for submitting test data and accessing the product evaluation listings by technology area. The Web site would contain a test data submission form to provide DOE with a technology description and features, qualifying test data, cost information, manufacturer-estimated energy savings achievable, and the intended scope of applicability for the product, all of which would be used to evaluate or characterize the technology or product.

DOE's primary interest in structuring the technology evaluations is to provide objective product energy savings information that commercial building owners and operators would need to determine whether to make a capital investment in a particular technology. Products that did not meet the specified level of energy efficiency would not be listed. The technology evaluations would be model-based and are not expected to involve any field testing. The submitted product test data and cost data would serve as the basis for DOE's various analyses. These analyses would utilize models that would be standard for similar products and technology areas (e.g. all condensing water heater test data will be input into the same models and will undergo the same analyses as other water heating technologies). This would make analysis results comparable within similar technology groups. Each of the analyses that would be performed as part of the evaluation is described below. The methodologies for performing the analyses would vary by product type, but would be the same within product groups so that results are directly comparable. Submitters would provide the expected use-case conditions for the product, thus identifying the conditions under which it would be evaluated. The use-case conditions would be included in the final evaluation report.

Annual Operating Expense: The annual operating expense calculation would estimate the total cost of operating, repairing, and maintaining the technology over the course of a year. The annual operating expense would take into account the energy consumption of the product and energy price models to calculate an annual energy expense for specific regions of the country. The annual energy expense would be combined with estimated repair and maintenance costs for the product to calculate the annual operating expense for the submitted product test data.

Energy Savings Analysis: The energy savings analysis would calculate the total energy savings from an overnight switch to the new technology. The energy savings would be calculated as the difference between the annual unit energy consumption of a baseline technology and the annual unit energy consumption of the submitted product. The annual unit energy consumption of the new product would come from the test data. The baseline technology annual unit energy consumption would be determined by evaluating the distribution of product efficiencies currently in the marketplace.

DOE is suggesting that cost data for a product, specifically total installed cost data, be submitted along with the product test data. Then, more extensive and detailed analyses may be performed, such as a Life-Cycle Cost Analysis and a Payback Period Analysis.

Life-Cycle Cost Analysis: The life-cycle cost is the total consumer expense over the life of a product, including purchase expenses and operating costs (including energy expenditures). Future operating costs are discounted to the time of purchase and then are summed over the anticipated lifetime of the product.

The life-cycle cost is equal to the total installed cost plus the summation over the lifetime of the product of the operating costs discounted back to present day. The parameters to be defined for a life-cycle cost analysis are therefore:

(A) The total installed cost, in dollars.

(B) The lifetime of the technology, in years.

(C) The operating cost, in dollars.

(D) The discount rate.

(E) The year for which operating cost is to be determined.

The total installed cost would be submitted by the manufacturer along with the product test data. The primary inputs for establishing the operating cost are:

(C.1) Equipment energy consumption.

(C.2) Equipment efficiency.

(C.3) Energy prices.

(C.4) Energy price trends.

(C.5) Repair and maintenance costs.

(C.6) Lifetime.

(C.7) Discount rate.

DOE would utilize standard models and values for Energy Prices and Energy Price Trends based on compiled databases. Discount rate would be assumed by DOE. Repair and Maintenance Costs and Product Lifetime for all products of the same technology type would also be assumed if additional third-party test data is not provided to support manufacturer-suggested values for these fields. Remaining are Equipment Energy Consumption and Equipment Efficiency to be determined in order to calculate the operating cost. Energy Consumption and Energy Prices would be used to calculate the Annual Energy Expense. The Annual Energy Expense and Repair and Maintenance Cost would be used to calculate the Annual Operating Expense. The Annual Operating Expense combined with the assumed Lifetime, Discount Rate, and Energy Price Trends would be used to calculate the Lifetime Operating Expense. Finally, the Lifetime Operating Expense combined with the Total Installed Cost would be used to calculate the Life-Cycle Cost of the product.

As stated, Equipment Energy Consumption and Equipment Efficiency would come from the product test data submitted to the program by manufacturers. Energy consumption and efficiency data would be extracted from the submitted test data and will be fed into the standard DOE models, combined with standard assumed parameters, and the output would be Life-Cycle Cost and Payback Period (described below).

Payback Analysis: The payback period is the change in purchase expense of the new product (from a less efficient design to a more efficient design) divided by the change in annual operating expense that results from switching to the new product. It represents the number of years it will take the user to recover the assumed increased purchase expense of more energy-efficient equipment through decreased operating expenses. This calculation is known as a “simple” payback period because it does not take into account changes in operating expense over time or the time value of money (i.e., uses an effective discount rate of zero percent).

The data inputs to this analysis would be the total installed cost of the equipment to the consumer and the annual (first year) operating expenditures. From the Life-Cycle Cost Analysis, the same methodology would be used and the Total Installed Cost, provided by the submitter or assumed in the analysis, would be combined with the Annual Operating Expense to calculate the Payback Period for the product. A payback period analysis compares the savings from switching to a more efficient product with the cost of a less efficient product, or baseline. For these analyses, the baseline would be determined by evaluating the distribution of product efficiencies currently in the marketplace. The resulting estimates would be used as the base case for the analysis.

As noted above, DOE is interested in receiving comments on the analyses proposed as part of the evaluation process. In addition, DOE is interested in what subsequent analyses or data would be most useful in assisting investment decisions. Evaluation results would first be sent to the manufacturer for comment following completion and prior to a decision of whether to list the product. The manufacturer would have a period of three weeks to return comments on the results of the evaluation. The comment period is intended to provide the manufacturer with a fair opportunity to justify or comment on whatever the evaluation results might reflect. DOE would develop a mechanism for creating awareness of completed and posted evaluation reports to ensure that the technology evaluations facilitate market adoption. Only products that meet a minimum energy efficiency improvement threshold would be posted to the program Web site. DOE seeks comments on what these threshold levels should be for different products.

Issues on Which DOE Seeks Commentand Information

DOE invites comments from respondents on all the specific elements discussed above, as well as any additional issues the respondent deems important. Specifically, DOE is requesting comment as to what level of analysis results should be necessary for a product to be listed. DOE is also requesting comment on the appropriateness of the analyses as described.

DOE is also interested in information from organizations currently conducting technology evaluations or housing product test data to create a listing for commercial building technologies based on the evaluation of test data. DOE seeks input from stakeholders conducting similar technology evaluation programs. Those stakeholders should respond to the following queries:

(1) How could DOE compliment existing efforts?

(2) Comments on the potential to use the proposed DOE evaluation process.

(3) Examples of your current technology evaluation program. The summary should include, at a minimum, the purpose of the program, the procedure and test plan followed for evaluations, and the reporting format of results. A sample evaluation may be included as an additional attachment.

(4) Example test data used either in other evaluation programs (see query 3 above) or as potential input into the process.

(5) Comments on the DOE-proposed review criteria.

(6) What commercial building technologies have been evaluated, or are planned for future evaluation, in your program?

(7) What organizations, if any, are qualified to accredit test facilities for this type of program?

DOE is also requesting notice of the availability of, and willingness to share, test data (that meets the established criteria) within the technology scope of the new Technology EvaluationProcess, as outlined in this RFI. DOE also requests that, once functional, manufacturers, utilities, research organizations, state and municipal energy programs, and other stakeholders submit test data through the program Web site via the nomination form.

Disclaimer and Important Notes

This is an RFI issued solely for information and program planning purposes; this RFI does not constitute a formal solicitation for proposals or abstracts. Your response to this notice will be treated as information only. DOE will not provide reimbursement for costs incurred in responding to this RFI. Respondents are advised that DOE is under no obligation to acknowledge receipt of the information received or provide feedback to respondents with respect to any information submitted under this RFI. Responses to this RFI do not bind DOE to any further actions related to this topic.

Confidential Business Information

According to 10 CFR 1004.11, any person submitting information he or she believes to be confidential and exempt by law from public disclosure should submit via e-mail, postal mail, or hand delivery/courier two well-marked copies: One copy of the document marked confidential including all the information believed to be confidential, and one copy of the document marked non-confidential with the information believed to be confidential deleted. Submit these documents via e-mail or on a CD, if feasible. DOE will make its own determination about the confidential status of the information and treat it according to its determination.

Factors of interest to DOE when evaluating requests to treat submitted information as confidential include: (1) A description of the items; (2) whether and why such items are customarily treated as confidential within the industry; (3) whether the information is generally known by or available from other sources; (4) whether the information has previously been made available to others without obligation concerning its confidentiality; (5) an explanation of the competitive injury to the submitting person which would result from public disclosure; (6) when such information might lose its confidential character due to the passage of time; and (7) why disclosure of the information would be contrary to the public interest.

It is DOE's policy that all comments may be included in the public docket, without change and as received, including any personal information provided in the comments (except information deemed to be exempt from public disclosure).

Issued in Washington, DC on May 18, 2011.
Kathleen B. Hogan,
Deputy Assistant Secretary for Energy Efficiency, Office of Technology Development, Energy Efficiency and Renewable Energy.

[FR Doc. 2011-13096 Filed 5-25-11; 8:45 am]

BILLING CODE 6450-01-P